DEPARTMENT OF HOMELAND SECURITY

Transportation Security Administration

Reports, Forms, and Record Keeping Requirements: Agency Information Collection Activity Under OMB Review; Aviation Security Customer Satisfaction Performance Measurement Passenger Survey

AGENCY: Transportation Security Administration (TSA), DHS.

ACTION: Notice.

SUMMARY: This notice announces that TSA has forwarded the Information Collection Request (ICR) abstracted below to the Office of Management and Budget (OMB) for review and clearance under the Paperwork Reduction Act. The ICR describes the nature of the information collection and its expected burden on the public. TSA published a Federal Register notice, with a 60-day comment period soliciting comments, of the following collection of information on May 23, 2003, 68 FR 28242.

DATES: Send your comments by September 3, 2003. A comment to OMB is most effective if OMB receives it within 30 days of publication.

ADDRESSES: Comments may be faxed to the Office of Information and Regulatory Affairs, Office of Management and Budget, Attention: DHS-TSA Desk Officer, at (202) 395-5806.

FOR FURTHER INFORMATION CONTACT: Yani Collins; TSA-03, Office of Strategic Management & Analysis; Transportation Security Administration HQ, West Tower, Suite 1045N; 601 South 12th Street, Arlington, VA 22202-4220; telephone (571) 227-1620; facsimile (571) 227-1927; or e-mail Yani.Collins@dhs.gov.

SUPPLEMENTARY INFORMATION:

Transportation Security Administration (TSA)

Title: Aviation Security Customer Satisfaction Performance Measurement Passenger Survey.

Type of Request: New collection.

OMB Control Number: Not yet assigned.

Forms: Aviation Security Customer Satisfaction Performance Measurement Passenger Survey Forms.

Affected Public: Up to 422,000 members of the flying public each year.

Abstract: TSA seeks to provide world-class customer service and world-class security. It also seeks to be a performance-based organization that evaluates its programs, measures its performance, and makes management decisions based on objective, credible data. In order to assess its success in providing world-class customer service, TSA intends to conduct a brief satisfaction survey of passengers at the airport. We will conduct two types of surveys: (1) A statistically-valid survey conducted periodically at groups of major airports each year in order to produce the Customer Satisfaction Index for Aviation Operations (CSI-A), a major agency-wide performance measure, and other system-wide performance measures for program evaluation and process improvement; and (2) targeted surveys conducted at individual airports in order to provide targeted performance measurements for use by TSA on-site management. Surveys will be voluntary and anonymous.

Number of Respondents: 422,000.

Estimated Annual Burden Hours: A cumulative maximum of 35,167 hours annually based on an estimated burden of five minutes per respondent.

TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including through the use of appropriate automated, electronic, mechanical, or other technological collection techniques or other forms of information technology.

Issued in Arlington, Virginia, on July 29, 2003.
Susan T. Tracey,
Deputy Chief Administrative Officer.

[FR Doc. 03-19775 Filed 8-1-03; 8:45 am]

BILLING CODE 4910-62-P